ENVIRONMENTAL PROTECTION AGENCY

[ER-FRL-6667-1]

Environmental Impact Statements and Regulations; Availability of EPA Comments

Availability of EPA comments prepared pursuant to the Environmental Review Process (EDP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050168, ERP No. D-BLM-L65484-AK, East Alaska Draft Resource Management Plan (RMP), Provide a Single Comprehensive Land Use Plan, Implementation, Glennallen Field Office District, AK.

Summary: EPA expressed environmental concerns about the potential impacts to wetlands, steams, aquatic wildlife and habitat from impacts not avoided or mitigated from proposed stipulations and required operating procedures. In addition, there is potential for adverse impacts to subsistence users and resources if land along the TAPS corridor is conveyed from federal management, The final EIS should include an environmentally protective strategy for managing off-road vehicles, with particular attention to sensitive wetlands and streams. Rating EC2.

EIS No. 20050203, ERP No. D-NPS-L65486-WA, Mountain Lake Fisheries Management Plan for the North Cascades National Service Complex, Implementation, North Cascades National Park, Whatcom, Skagit and Chelan Counties, WA.

Summary: EPA supports the goals of the project, but expressed environmental concerns about the long-term impacts on plankton, macroinvertebrates and amphibians. Rating EC1.

EIS No. 20050260, ERP No. D-AFS-L65490-AK, Scott Peak Project Area, Harvesting Timber and Development of Road Management, Tongrass National Forest, Petersburg Ranger District, Northeast of Kupreanof Island, AK.

Summary: EPA expressed environmental concerns about impacts to water quality from landslides and potential impacts from cumulative impacts of future sales in the area. Rating EC1.

Final EISs

EIS No. 20050276, ERP No. F-FRC-J03001-CO, Entrega Pipeline Project, Construction and Operation New Interstate Natural Gas Pipeline System, Right-of-Way Grant Issue by BLM, Meeker Hub and Cheyenne Hub, Rio Blanco and Weld Counties, CO, and Sweetwater County, WY.

Summary: No formal comment letter was sent to the preparing agency.

EIS No. 20050323, ERP No. F-NOA-K39091-CA, Monterey Accelerated Research Systems (MARS) Cabled Observatory, Proposes to Install and Operate an Advanced Undersea Cabled Observatory, Monterey Bay, Pacific Ocean Offshore of Moss Landing, Monterey County, CA.

Summary: No formal comment letter was sent to the preparing agency.

EIS No. 20050309, ERP No. FS-AFS-L65345-WA, Deadman Creek Ecosystem Management Projects, Information of the Planning the Analysis of the Watershed, Three Rivers Ranger District, Colville National Forest, Ferry County, WA

Summary: No formal comment letter was sent to the preparing agency.

Dated: August 30, 2005.
Robert W. Hargrove,
Director, NEPA Compliance Division, Office of Federal Activities.

[FR Doc. 05-17542 Filed 9-1-05; 8:45 am]

BILLING CODE 6560-50-P